DEPARTMENT OF COMMERCE

National Oceanic and Atmospheric Administration

[I.D. 031003F]

Endangered and Threatened Species; Take of Anadromous Fish

AGENCY: National Marine Fisheries Service (NOAA Fisheries), National Oceanic and Atmospheric Administration (NOAA), Commerce.

ACTION: Applications for scientific research permits (1140, 1156, 1205, 1410) and permit modifications (1309, 1315).

SUMMARY: Notice is hereby given that NOAA Fisheries received four scientific research permit applications and two applications to modify existing permits related to Pacific salmon and steelhead. All of the proposed research is intended to increase knowledge of species listed under the Endangered Species Act (ESA) and to help guide management and conservation efforts.

DATES: Comments or requests for a public hearing on the applications or modification requests must be received no later than 5 p.m. Pacific daylight savings time on April 14, 2003.

ADDRESSES: Written comments on the applications or modification requests should be sent to Protected Resources Division, NOAA Fisheries, F/NWO3, 525 NE Oregon Street, Suite 500, Portland, OR 97232-2737. Comments may also be sent via fax to 503-230-5435. Comments will not be accepted if submitted via e-mail or the internet.

FOR FURTHER INFORMATION CONTACT: Garth Griffin, Portland, OR (ph: 503-231-2005, Fax: 503-230-5435, e-mail: Garth.Griffin@noaa.gov). Permit applications are available at http://www.nwr.noaa.gov.

SUPPLEMENTARY INFORMATION:

Species Covered in This Notice

The following listed species and evolutionarily significant units (ESUs) are covered in this notice:

Sockeye salmon (Oncorhynchus nerka): endangered Snake River (SnR); threatened Ozette Lake.

Chinook salmon (O. tshawytscha): endangered naturally produced and artificially propagated upper Columbia River (UCR) spring-run; threatened naturally produced and artificially propagated SnR spring/summer (S/S); threatened SnR fall; threatened lower Columbia River (LCR); threatened upper Willamette River (UWR); threatened naturally produced and artificially propagated Puget Sound.

Chum salmon (O. keta): threatened Columbia River (CR); threatened Hood Canal summer-run.

Steelhead (O. mykiss): endangered naturally produced and artificially propagated UCR; threatened SnR; threatened middle Columbia River (MCR); threatened LCR.

Authority

Scientific research permits are issued in accordance with section 10(a)(1)(A) of the ESA (16 U.S.C. 1531 et. seq) and Federal regulations governing listed fish and wildlife permits (50CFR 222-226). NOAA Fisheries issues permits and modifications based on findings that such permits and modifications: (1) are applied for in good faith; (2) if granted and exercised, would not operate to the disadvantage of the listed species that are the subject of the permit; and (3) are consistent with the purposes and policy of section 2 of the ESA. Authority to take listed species is subject to conditions set forth in the permits and modifications.

Anyone requesting a hearing on an permit or modification application listed in this document should set out the specific reasons why a hearing would be appropriate (see ADDRESSES). The holding of such hearing is at the discretion of the Assistant Administrator for Fisheries, NOAA.

Permit Applications Received

Permit 1140

The Northwest Fisheries Science Center (NWFSC), NOAA Fisheries in Seattle, WA requests a 5-year permit for three studies that will have annual take of juvenile threatened OC coho salmon; juvenile threatened CR chum salmon; juvenile endangered SnR sockeye salmon; juvenile threatened naturally produced and artificially-propagated SnR S/S chinook salmon; juvenile threatened SnR fall chinook salmon; juvenile threatened LCR chinook salmon; juvenile threatened UWR chinook salmon; juvenile endangered naturally produced and artificially propagated UCR spring chinook salmon; juvenile threatened naturally produced and artificially propagated PS chinook salmon; juvenile threatened SnR steelhead; juvenile threatened LCR steelhead; juvenile threatened MCR steelhead; juvenile endangered naturally produced and artificially propagated UCR steelhead; and juvenile threatened UWR steelhead.

Study 1. The NWFSC would take listed juvenile salmon and steelhead while conducting research that will assess the relationship between environmental variables, selected anthropogenic stresses, and bacterial and parasitic pathogens on disease-induced mortality in juvenile salmon in selected coastal estuaries and nearshore areas in Oregon and Washington. In addition, the NWFSC proposes to gather additional site-specific information in the Lower Columbia River to (1) determine contaminant concentrations in fish, (2) understand bioaccumulation in juvenile salmon and determine site-specific factors, (3) analyze for the presence of physiological biomarkers, and to (4) investigate the presence of indicators of exposure to environmental estrogens. The NWFSC would collect samples with seines or high speed rope trawls, and requests authorization to lethally take salmon for pathogen prevalence and intensity, biochemical composition, histopathological attributes, and stomach content analyses.

Study 2. The NWFSC would take listed juvenile PS chinook salmon while conducting research activities in the Duwamish waterway in the state of Washington. The NWFSC will investigate salmon exposure to contaminants and evaluate the extent of river contamination to determine what actions will be necessary to mitigate future exposure. Beach seines will be used to catch juvenile threatened PS chinook salmon. The NWFSC also would collect samples with high speed rope trawls and it requests authorization to lethally take salmon for contaminant analysis.

Study 3. The NWFSC would take juvenile PS chinook salmon associated with an assessment and monitoring program designed to (1) characterize the estuarine ecology of existing life history types of chinook salmon, (2) evaluate the performance of estuarine habitat restoration actions, and (3) evaluate the effects of shoreline alterations on nearshore fishes. Sampling will occur in Seattle, WA estuarine nearshore areas. The NWFSC would collect listed salmon with beach seines, enclosure nets, surface trawl nets, and block/fyke nets, sample the fish for biological data and stomach contents using non-lethal evacuation, and then release them. In addition, the NWFSC requests authorization to lethally take salmon for histopathological attributes and otolith stomach content analyses.

Permit 1156

The U.S. Environmental Protection Agency (EPA) in Corvallis, Oregon (OR) requests a 5-year permit for annual take of juvenile and adult threatened LCR steelhead; threatened MCR steelhead; endangered naturally-produced and artificially propagated UCR steelhead; threatened SnR steelhead; threatened UWR steelhead; threatened SnR (S/S) chinook salmon; threatened SnR fall chinook salmon; threatened LCR chinook salmon; threatened UWR chinook salmon; endangered naturally produced and artificially propagated UCR spring chinook salmon; threatened naturally produced and artificially propagated PS chinook salmon; threatened OC coho salmon; and threatened SONCC coho salmon associated with research designed to assess species status and trends in randomly selected river systems in Oregon, Washington, and Idaho. The EPA intends to conduct annual surveys for fish, macroinvertebrate, algae, and microbial assemblages as well as physical and chemical habitat conditions in randomly selected river-systems in Oregon, Washington, and Idaho. Listed fish will be captured by electrofishing (using backpack or raft-mounted gear), sampled for biological information, and released. The research will benefit the listed species by providing baseline information about water quality in the study areas and will also support enforcement of the Clean Water Act in those river systems where listed fish are present. Dynamac Corporation, U.S. Geological Survey Biological Resources Division, Idaho Department of Environmental Quality, and Washington Department of Ecology will be cooperators in the proposed EPA research. The EPA requests the cooperators' biologists be authorized as agents of the EPA in conducting the research.

Permit 1205

The Oregon Department of Environmental Quality (ODEQ) in Portland, OR requests a 5-year permit for annual take of juvenile threatened SnR (S/S) chinook salmon; SnR fall chinook salmon; and SONCC coho salmon associated with research designed to assess the condition of randomly selected streams in Southwestern and Northeastern Oregon. The research involves stream vertebrate surveys that are part of a monitoring program that evaluates the chemical, biological, and habitat conditions of streams on a regional basis. ODEQ's research implements the Oregon Plan and is coordinated with the Oregon Department of Fish and Wildlife and the EPA. ODEQ would capture listed juvenile salmonids using backpack electrofishing, sample them for biological information, and release them. The research will benefit the listed species by providing baseline information to support enforcement of the Clean Water Act in freshwater river systems where listed fish are present.

Permit 1410

The NNWFSC in Seattle, WA requests a 5-year permit for annual take of adult and juvenile listed fish. The NWFSC proposes to investigate the distribution, abundance, condition and health of juvenile salmon in relation to physical and biological oceanographic conditions in the Columbia River plume and surrounding ocean environment to better understand factors controlling estuarine and marine survival. The study will provide information to help predict and forecast survival potential as a function of easily measured indices of plume and ocean conditions. Further, the information will help hydropower operators develop a set of hydropower management scenarios that could benefit survival, growth, and health of juvenile salmon by changing the dynamics of the Columbia River plume. Listed fish will be collected with purse seines and trawl nets, sampled for biological data, and released. The NWFSC also requests authorization to lethally take salmon for endocrine assessments, genetic stock identification, pathogen prevalence and intensity, otolith and stomach content analysis, and histopathological attributes.

Modification Requests

Permit 1309-Modification 2

The King County Department of Natural Resources and Parks (KCDNRP) in Seattle, WA requests a modification to permit 1309 for increased annual take of juvenile threatened naturally produced PS chinook salmon associated with its current study examining the behavior of juvenile chinook and other salmonids in the Green and Duwamish Rivers and adjacent nearshore areas in the State of Washington. The study will provide information about natural chinook salmon growth, timing of migration, feeding, life history types and interactions with hatchery salmon. Resource managers will use the information to take short-term conservation measures as well as to establish a baseline to gauge the long-term effectiveness of ESA recovery actions. In addition, the KCDNR requests authorization to lethally take PS chinook salmon for otolith and diet analysis and to capture listed fish using a screw trap.

Permit 1315-Modification 2

The U.S. Army Corp of Engineers Seattle District (COE) requests a modification to permit 1315, which authorizes annual take of PS chinook salmon under several studies. The COE is proposing to micro-acoustic tag naturally produced PS chinook salmon associated with an ongoing investigation of fish passage conditions at the large lock chamber of the Hiram M. Chittenden Locks and Lake Washington Ship Canal in the State of Washington. The study will identify effects on salmonids in the Lake Washington Basin and help researchers (1) identify limiting factors contributing to smolt survival, (2) develop smolt survival estimates, and (3) assess restoration measures to improve smolt survival.

Further, the COE is requesting annual take of juvenile naturally produced PS chinook salmon associated with a new study which will provide it and the city of Seattle with information on salmonid nearshore habitat use in Lake Washington and the Lake Washington Ship Canal. The information will help (1) determine the relationship between habitat use and shoreline development, (2) guide the city's habitat restoration efforts to improve habitat conditions, (3) help predict the effects of modifications to salmonid habitat, and (4) and aid Lake Washington area municipalities with their shoreline management programs. Listed fish would be captured by beach seine, anesthetized, sampled for biological information and stomach contents using non-lethal evacuation, tagged/marked, and released.

This notice is provided pursuant to section 10(c) of the ESA. NOAA Fisheries will evaluate the applications and modification requests, associated documents, and any comments submitted to determine whether the applications and modification requests meet the requirements of section 10(a) of the ESA and Federal regulations. NOAA will not make any final determinations until after the end of the 30-day comment period. NOAA Fisheries will publish notice of its final action in the Federal Register.

Dated: March 11, 2003.
Barbara Schroeder,
Acting Chief, Endangered Species Division, Office of Protected Resources, National Marine Fisheries Service.

[FR Doc. 03-6199 Filed 3-13-03; 8:45 am]

BILLING CODE 3510-22-S